DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995, this notice announces that the Information Collection abstracted below has been forwarded to the Office of Management and Budget (OMB) for review and approval. The nature of the information collection is described as well as its expected burden. The Federal Register Notice with a 60-day comment period soliciting comments on the following collection of information was published on September 23, 2008. No comments were received.

DATES: Comments must be submitted on or before January 30, 2009.

FOR FURTHER INFORMATION CONTACT: Ruth Develbis, Maritime Administration, 1200 New Jersey Avenue, SE., Washington, DC 20590. Telephone: (202) 366-2314; or e-Mail: ruth.develbis@dot.gov. Copies of this collection also can be obtained from that office.

SUPPLEMENTARY INFORMATION: Maritime Administration.

Title: Records Retention Schedule.

OMB Control No.: 2133-0501.

Type of Request: Extension of currently approved collection.

Affective Public: United States shipping companies receiving government financial aid.

Forms: None.

Abstract: Section 801 of the Merchant Marine Act, 1936, as amended (46 U.S.C. 53101, note), requires retention of records pertaining to financial assistance programs for ship construction and ship operations. These records are required to be retained to permit proper financial review of pertinent records at the conclusion of a contract when the contractor was receiving government financial assistance.

Dates: Comments should be submitted on or before March 2, 2009.

Annual Estimated Burden Hours: 50 hours.

ADDRESSES: Send comments to the Office of Information and Regulatory Affairs, Office of Management and Budget, 725 17th Street, NW., Washington, DC 20503, Attention: Maritime Administration Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect, if OMB receives it within 30 days of publication.

Dated: December 19, 2008.
Leonard Sutter,
Secretary, Maritime Administration.

[FR Doc. E8-31061 Filed 12-30-08; 8:45 am]

BILLING CODE 4910-81-P